DEPARTMENT OF EDUCATION

Community Technology Centers Program

AGENCY: Office of Vocational and Adult Education, Department of Education.

ACTION: Notice of final changes to requirements.

SUMMARY: The Assistant Secretary for Vocational and Adult Education announces changes to certain requirements governing the Community Technology Centers (CTC) program that the Department established in 2004 and used for the fiscal year (FY) 2004 CTC competition. Specifically, the Assistant Secretary is removing the following two requirements: (1) That novice and non-novice applicants in CTC competitions be ranked and funded separately, and (2) that at least 75 percent of the funds be set aside for non-novice applicants and up to 25 percent of the funds be set aside for novice applicants. The Assistant Secretary will abide by the revised requirements in making awards in FY 2005 from the list of unfunded applicants from the FY 2004 CTC competition.

DATES: This notice of final changes to requirements is effective August 11, 2005.

FOR FURTHER INFORMATION CONTACT: Karen Holliday, U.S. Department of Education, Office of Vocational and Adult Education, 400 Maryland Avenue, SW., Potomac Center Plaza, Room 11089, Washington, DC 20202-7241. Telephone: (202) 245-7708 or via e-mail: karen.holliday@ed.gov. Please type “CTC Notice Correspondence” as the subject line of your electronic message.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

Note: This notice does not solicit applications.

SUPPLEMENTARY INFORMATION:

Background

As authorized by title V, part D, subpart 11, of the Elementary and Secondary Education Act of 1965, as amended by the No Child Left Behind Act of 2001 (ESEA), the purpose of the CTC program is to assist eligible applicants to create or expand community technology centers that provide disadvantaged residents of economically distressed urban and rural communities with access to information technology and related training.

In 2004, the Department held a CTC competition with FY 2004 funds, in which it used the requirements, priorities, and selection criteria that it had established through a notice of final requirements, priorities, and selection criteria for novice and non-novice applicants for the CTC program, published in the Federal Register on April 16, 2004 (69 FR 20766). Under those final requirements, the Department ranked and funded separately two sets of applicants—novice applicants and non-novice applicants—that met the established absolute priorities. The Department set aside approximately 75 percent of the funds for non-novice applicants and approximately 25 percent of the funds for novice applicants.

During the 2004 CTC competition, the Department received nearly 500 applications in response to the FY 2004 notice inviting applications. Because of the separate ranking of novice and non-novice applicants and the set-aside requirements, a number of high-quality applications received through the FY 2004 CTC competition were not funded. Accordingly, the Department intends to make awards for FY 2005 based on the list of unfunded applicants from the FY 2004 CTC competition without regard to the set-aside provisions.

Analysis of Comments and Changes

On May 4, 2005, the Department published a notice of proposed changes to requirements in the Federal Register (70 FR 23142). In response to the notice of proposed changes to requirements, 12 parties submitted comments. An analysis of the comments on the notice of proposed changes follows.

Generally, we do not address technical and other minor changes—and suggested changes the law does not authorize us to make under the applicable statutory authority.

Comments: Several commenters stated that they would like the Department to fund current CTC grantees, as well as FY 2004 unfunded applicants.

Discussion: The purpose of the CTC program is to assist eligible applicants to create or expand community technology centers that provide disadvantaged residents of economically distressed urban and rural communities with access to information technology and related training. In order to reach additional needy communities, the Assistant Secretary has determined that the best policy for the Department in FY 2005 is to fund additional high-quality applications and that a sufficient number of high-quality 2004 applications remain available for funding.

Changes: None.

Comments: Two commenters stated that they are concerned about the status of unfunded applicants' current budget, partnerships, and other resource capabilities due to the significant lapse of time since these applicants submitted their application materials to the Department for the 2004 CTC competition.

Discussion: Prior to awarding FY 2005 CTC grant funds, we will contact the highest ranked FY 2004 unfunded applicants to verify that applicants remain interested in receiving a grant to carry out the project outlined in their application, have the personnel and other resources needed to implement their project, and can meet the other requirements of the program. If an applicant cannot meet that test, the Department will contact the next applicant on the slate.

Changes: None.

Comments: Several commenters stated that they want the Department to conduct a new competition for FY 2005 in order to fund the highest-quality projects.

Discussion: The Department received nearly 500 applications in response to the FY 2004 notice inviting applications for the CTC program. With the $9.5 million available in FY 2004, the Department awarded 25 grants. The Assistant Secretary has determined that a sufficient number of high-quality FY 2004 applications remain available for funding.

Changes: None.

Comments: Several commenters recommended that the Department continue to distinguish between novice and non-novice applicants.

Discussion: In order to ensure that the Department funds the highest-quality applications and for the reasons stated in the notice of proposed changes to requirements, we continue to believe that we should select for funding unfunded applicants from the FY 2004 competition irrespective of their novice or non-novice status.

Changes: None.

Target Applicants

We will change two of the requirements of the CTC competition held in 2004, so that the Department is no longer required to: (1) Rank and fund novice and non-novice applicants separately, and (2) set aside at least 75 percent of the funds for non-novice applicants and up to 25 percent of the funds for novice applicants that met the absolute priorities.

For FY 2005, we will make awards from the list of unfunded applicants from the FY 2004 competition in the highest-ranking order, using the same priorities and selection criteria and irrespective of the novice or non-novice status of applicants.

Executive Order 12866

This notice of final changes to requirements has been reviewed in accordance with Executive Order 12866. Under the terms of this order, we have assessed the potential costs and benefits of this regulatory action.

The potential costs associated with the notice of final changes to requirements are those resulting from statutory requirements and those we have determined as necessary for administering this program effectively and efficiently.

In assessing the potential costs and benefits—both quantitative and qualitative—of this notice of changes to requirements, we have determined that the benefits of the change to the requirements governing the FY 2004 CTC competition justify the costs.

We have also determined that this regulatory action does not unduly interfere with State, local, and tribal governments in the exercise of their governmental functions.

Intergovernmental Review

This program is subject to Executive Order 12372 and the regulations in 34 CFR part 79. One of the objectives of the Executive Order is to foster an intergovernmental partnership and a strengthened federalism. The Executive Order relies on processes developed by State and local governments for coordination and review of proposed Federal financial assistance.

Electronic Access to This Document

You may view this document, as well as all other Department of Education documents published in the Federal Register, in text or Adobe Portable Document Format (PDF) on the Internet at the following site: http://www.ed.gov/news/fedregister/.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.341—Community Technology Centers Program)

Program Authority: 20 U.S.C. 7263-7263b.

Dated: July 7, 2005.
Susan Sclafani,
Assistant Secretary for Vocational and Adult Education.

[FR Doc. 05-13688 Filed 7-11-05; 8:45 am]

BILLING CODE 4000-01-P